DEPARTMENT OF AGRICULTURE

Establishment of the Council for Native American Farming and Ranching

AGENCY: Office of the Secretary, USDA.

ACTION: Notice and Call for Nominations.

SUMMARY: The Department of Agriculture (USDA) is announcing the establishment of the Council for Native American Farming and Ranching (Council). The purpose of the Council is to provide recommendations to the Secretary on how to eliminate barriers to Native American participation in Farm Service Agency (FSA) farm loan programs and other farm programs. The Council will discuss issues related to the participation of Native American farmers and ranchers in USDA farm loan programs and transmit recommendations concerning any changes to FSA regulations or internal guidance or other measures. The Council is necessary and in the public interest. USDA is seeking nominations for individuals to be considered Council members. Candidates who wish to be considered for membership on the Council should submit an AD-755 application form and resume to the Secretary of Agriculture. Cover letters should be addressed to the Secretary of Agriculture. The application form and more information about advisory Councils can be found at usda.gov/advisory_committees.xml.

DATES: Submit nominations on or before January 20, 2012.

ADDRESSES: All nomination materials should be mailed in a single, complete package and postmarked by January 20, 2012. Nominations may be submitted by mail to:

• Thomas Vilsack, Secretary, U.S. Department of Agriculture, 1400 Independence Avenue SW., Washington DC, 20250, Attn: Council on Native American Farmers and Ranchers.

• Send comments to the Office of Tribal Relations, 500A Whitten Building, 1400 Independence Avenue SW., Washington DC 20250.

FOR FURTHER INFORMATION CONTACT: Janie Simms Hipp, Senior Advisor, Tribal Relations or John Lowery, Management Analyst, Office of Tribal Relations. Email your questions to Janie.Hipp@osec.usda.gov or John Lowery at John.Lowery@osec.usda.gov or call (202) 205-2249.

SUPPLEMENTARY INFORMATION: In accordance with the provisions of the Federal Advisory Council Act (FACA) as amended (5 U.S.C. App. 2) and with the concurrence of the General Services Administration, USDA is announcing the establishment of an advisory Council for Native American farmers and ranchers. The Council is a discretionary advisory Council established under the authority of the Secretary of Agriculture, in furtherance of the settlement agreement in Keepseagle v. Vilsack that was granted final approval by the District Court for the District of Columbia on April 28, 2011. The Council will operate under the provisions of the FACA and report to the Secretary of Agriculture.

The purpose of the Council is (1) to advise the Secretary of Agriculture on issues related to the participation of Native American farmers and ranchers in USDA farm loan programs; (2) to transmit recommendations concerning any changes to FSA regulations or internal guidance or other measures that would eliminate barriers to program participation for Native American farmers and ranchers; (3) to examine methods of maximizing the number of new farming and ranching opportunities created through the farm loan program through enhanced extension and financial literacy services; (4) to examine methods of encouraging intergovernmental cooperation to mitigate the effects of land tenure and probate issues on the delivery of USDA farm loan programs; (5) to evaluate other methods of creating new farming or ranching opportunities for Native American producers; and (6) to address other related issues as deemed appropriate.

The Council will have 15 members, 11 of whom will be Native American leaders or persons who represent the interests of Native American Tribes or Native American organizations. The term “Native American leaders” is not limited to elected Tribal representatives or members or persons with Native American ancestry. The remaining four members will be high-ranking USDA officials, including: (1) The Senior Advisor to the Secretary, Tribal Relations; (2) the Farm Service Agency Administrator; (3) the Assistant Secretary for Civil Rights; and (4) the Deputy Administrator for Farm Loan Programs, or their delegates.

Members shall serve without compensation, but may receive reimbursement for travel expenses and per diem in accordance with USDA travel regulations for attendance at Council functions. Council members who represent the interests of Native American farmers and ranchers may also be paid an amount not less than $100 per day for time spent away from their employment or farming or ranching operation, subject to the availability of funds. Members may include:

• Native American farmers or ranchers who have participated in USDA loan or payment programs;

• Representatives of organizations with a history of working with Native American farmers or ranchers;

• Civil rights professionals;

• Representatives of Tribal governments with demonstrated experience working with Native American farmers or ranchers; and

• Such other persons as the Secretary considers appropriate.

No individual who is currently registered as a Federal lobbyist is eligible to serve as a member of the Council.

The Secretary of Agriculture invites those individuals, organizations, and groups affiliated with the categories listed above or who have knowledge of issues related to the purpose of the Council to nominate individuals for membership on the Council. Individuals and organizations who wish to nominate experts for this or any other USDA advisory Council should submit a letter to the Secretary listing these individuals' names and business address, phone, and email contact information. The Secretary of Agriculture seeks a diverse group of members representing a broad spectrum of persons interested in providing suggestions and ideas on how USDA can tailor its farm programs to meet the needs of Native American farmers and ranchers. Individuals receiving nominations will be contacted and asked to return the AD-755 application form and resume within 10 business days of notification. All candidates will be vetted and considered for appointment by the Secretary of Agriculture. Equal opportunity practices will be followed in all appointments to the Council in accordance with USDA policies. The Council will meet at least twice a year.

Dated: December 1, 2011.
Thomas J. Vilsack,
Secretary.

[FR Doc. 2011-31235 Filed 12-5-11; 8:45 am]

BILLING CODE 3410-01-P